DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. OFAC is also publishing updates to identifying information of one or more persons currently included in the SDN List.

DATES: This action was issued on February 19, 2026. See SUPPLEMENTARY INFORMATION for relevant dates.

FOR FURTHER INFORMATION CONTACT: OFAC: Associate Director for Global Targeting, 202-622-2420; Assistant Director for Licensing, 202-622-2480; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Actions

On February 19, 2026, OFAC determined that the property and interests in property subject to U.S. jurisdiction of the following persons are blocked under the relevant sanctions authority listed below.

Individuals

1. ADAM, Elfateh Abdullah Idris (a.k.a. IDRIS, Al-Fateh Abdullah; a.k.a. “ABU LULU”; a.k.a. “ISSA ABU LULU”), Sudan; nationality Sudan; Gender Male; Rapid Support Forces Commander in Sudan (individual) [SUDAN-EO14098].

Designated pursuant to section 1(a)(i)(G) of Executive Order 14098 of May 4, 2023, “Imposing Sanctions on Certain Persons Destabilizing Sudan and Undermining the Goal of a Democratic Transition” (E.O. 14098), for being a foreign person who is responsible for, or complicit in, or has directly or indirectly engaged or attempted to engage in, the targeting of women, children, or any other civilians through the commission of acts of violence (including killing, maiming, torture, or rape or other sexual violence), abduction, forced displacement, or attacks on schools, hospitals, religious sites, or locations where civilians are seeking refuge, or through conduct that would constitute a serious abuse or violation of human rights or a violation of international humanitarian law.

Designated pursuant to section 1(a)(ii)(A) of E.O. 14098, for being a foreign person who is or has been a leader, official, senior executive officer, or member of the board of directors of the Rapid Support Forces (RSF), an entity that has, or whose members have, been responsible for, or complicit in, or have directly or indirectly engaged in actions or policies that threaten the peace, security, or stability of Sudan relating to the tenure of such leader, official, senior executive officer, or member of the board of directors.

3. MOHAMED, Tijani Ibrahim Moussa (a.k.a. “AL ZEER SALEM”; a.k.a. “AL ZEIR SALEM”), Sudan; nationality Sudan; Gender Male; Rapid Support Forces Field Commander in Sudan (individual) [SUDAN-EO14098].

Designated pursuant to section 1(a)(ii)(A) of E.O. 14098, for being a foreign person who is or has been a leader, official, senior executive officer, or member of the board of directors of the RSF, an entity that has, or whose members have, been responsible for, or complicit in, or have directly or indirectly engaged in actions or policies that threaten the peace, security, or stability of Sudan relating to the tenure of such leader, official, senior executive officer, or member of the board of directors.

On February 19, 2026, OFAC updated the entry on the SDN List for the following person, whose property and interests in property subject to U.S. jurisdiction continue to be blocked under the relevant sanctions authorities listed below.

Individual

(Authority: E.O. 14098.)

Bradley T. Smith,
Director, Office of Foreign Assets Control.

[FR Doc. 2026-03966 Filed 2-26-26; 8:45 am]

BILLING CODE 4810-AL-P